DEPARTMENT OF AGRICULTURE

Forest Service

Oregon Coast Provincial Advisory Committee

AGENCY: Forest Service, USDA.

ACTION: Notice of meeting.

SUMMARY: The Oregon Coast Province Advisory Committee will meet in Corvallis, OR, May 29, 2003. The theme of the meeting is Introduction/Overview/Business Planning. The agenda includes: Orientation of the NW Forest Plan; Set Future Meetings and Topics—Monitoring Field Trip; Lower Siuslaw Sub-Committee Update/Round Robin and Public Input.

DATES: The meeting will be held May 29, 2003, beginning at 9 a.m.

ADDRESSES: The meeting will be held at the LaSells Stewart Center, 100 LaSells Stewart Center, Oregon State University, Corvallis, Oregon 97331.

FOR FURTHER INFORMATION CONTACT: Joni Quarnstrom, Public Affairs Specialist, Siuslaw National Forest, 541-750-7075, or write to Siuslaw National Forest Supervisor, P.O. Box 1148, Corvallis, OR 97339.

SUPPLEMENTARY INFORMATION: The meeting is open to the public. Council Discussion is limited to Forest/BLM staff and Council Members. Lunch will be on your own. A public input session will be at 3:15 p.m. for fifteen minutes. The meeting is expected to adjourn around 3:30 p.m.

Dated: May 13, 2003.
George Buckingham,
District Ranger.

[FR Doc. 03-12534 Filed 5-19-03; 8:45 am]

BILLING CODE 3410-11-M